NATIONAL SCIENCE FOUNDATION

The EarthScope Science and Education Advisory Committee (16638); Notice of Meeting

In accordance with the Federal Advisory Committee Act (Pub. L. 92-463, as amended), the National Science Foundation announces the following meeting:

Name: The EarthScope Science and Education Advisory Committee (ESEC) meeting.

Dates and Time: 1 p.m.-5 p.m. Thursday, March 31, 2005. 8:30 a.m.-12 p.m. Friday, April 1, 2005.

Place: Hyatt Hotel/Tamaya Resort, 1300 Tuyuna Trail, Santa Ana Pueblo, NM 87004.

Type of Meeting: Part open (see agenda below).

Contact Person: Dr. Kaye Shedlock, EarthScope Program Officer, Division of Earth Sciences, Room 785, National Science Foundation, 4201 Wilson Blvd., Arlington, VA 22230. Telephone: (703) 292-8559.

Minutes: May be obtained from the contact person listed above.

Purpose of Meeting: To carry out EarthScope proposal and management review, and to provide advice, recommendations, and oversight concerning EarthScope construction, operation, science and education support.

Agenda: Open March 31, 2004 1 p.m.-5 p.m.—To review program and facility management, installation technical plans, science plans, and progress reports of EarthScope.

Open April 1, 2004 8:30 a.m.-10 a.m.—To review program and facility management, installation technical plans, science plans, and progress reports of EarthScope.

Closed: April 1, 2005, 10 a.m.-12 p.m.—To review the EarthScope Operation and Maintenance Plan covering funding for personnel and subcontracts for the operation phase of EarthScope; proposal actions from the 2005 EarthScope Solicitation, including the discussion of proposals still under review.

Reason for Closing: The projects being reviewed include information of a proprietary or confidential nature, including technical information; financial data and personal information concerning individuals associated with the proposals. These matters are exempt under 5 U.S.C. 552b(c), (4) and (6) of the Government in the Sunshine Act.

Dated: March 1, 2005.
Susanne Bolton,
Committee Management Officer.

[FR Doc. 05-4267 Filed 3-3-05; 8:45 am]

BILLING CODE 7555-01-M